DEPARTMENT OF COMMERCE

National Oceanic and Atmospheric Administration

RIN 0648-XV114

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet November 14-20, 2019. The Pacific Council meeting will begin on Friday, November 15, 2019 at 8 a.m. Pacific Standard Time (PST), reconvening at 8 a.m. each day through Wednesday, November 20, 2019. All meetings are open to the public, except a closed session will be held from 8 a.m. to 9 a.m., Friday, November 15 to address litigation and personnel matters. The Pacific Council will meet as late as necessary each day to complete its scheduled business.

ADDRESSES:

Meeting address: Meetings of the Pacific Council and its advisory entities will be held at the Hilton Orange County/Costa Mesa Hotel, 3050 Bristol Street, Costa Mesa, CA; telephone: (714) 540-7000.

Council address: Pacific Fishery Management Council, 7700 NE Ambassador Place, Suite 101, Portland, OR 97220.

Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The November 14-20, 2019 meeting of the Pacific Council will be streamed live on the internet. The broadcasts begin initially at 9 a.m. PST Friday, November 13, 2019 and continue at 8 a.m. daily through Wednesday, November 20, 2019. Broadcasts end when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the November Webinar ID, 634-645-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 532-691-006, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance November 2019 briefing materials and posted on the Pacific Council website at www.pcouncil.org no later than Friday, October 25, 2019.

A. Call to Order

1. Opening Remarks

2. Roll Call

3. Executive Director's Report

4. Approve Agenda

B. Open Comment Period

1. Comments on Non-Agenda Items

C. Enforcement Matters

1. Tri-State Enforcement Report

D. Coastal Pelagic Species Management

1. National Marine Fisheries Service (NMFS) Report

2. Preliminary Review of New 2020 Exempted Fishing Permits

3. Methodology Review Preliminary Topic Selection

4. Central Subpopulation of Northern Anchovy Nearshore Estimation Methodology, Frequency of Overfishing Limit Reviews, and Accountability Measures

E. Salmon Management

1. NMFS Report

2. Final Methodology Review

3. 2020 Preseason Management Schedule and Scope Annual Management Cycle Amendment

4. Southern Resident Killer Whale Endangered Species Act Consultation Update and Risk Assessment

F. Pacific Halibut Management

1. 2020 Catch Sharing Plan and Annual Regulations—Final Action

2. Commercial Directed Fishery Regulations for 2020

3. Commercial Directed Fishery Transition Planning

G. Habitat

1. Current Habitat Issues

H. Groundfish Management

1. NMFS Report

2 Workload and New Management Measure Update

3. Electronic Monitoring Program Guidelines and Manual Review

4. 2020 Harvest Specifications for Cowcod and Shortbelly Rockfish—Final Action

5. Preliminary Exempted Fishing Permit Approval for 2021-2022

6. Harvest Specifications for 2021-22 Including Final Overfishing Limits and Acceptable Biological Catches

7. Gear Switching and Sablefish Area Management Update

8. Biennial Management Measures for 2021-2022

9. Endangered Species Act Mitigation Measures for Salmon—Final Action

10. Inseason Adjustments Including Whiting Yield Set-Asides for 2020—Final Action

I. Administrative Matters

1. Legislative Matters Including the Modernizing Recreational Fisheries Management Act Report to Congress

2. Approval of Council Meeting Record

3. Fiscal Matters

4. Membership Appointments and Council Operating Procedures

5. Future Council Meeting Agenda and Workload Planning

J. Highly Migratory Species Management

1. NMFS Report

2. Recommend International Management Activities

3. Scoping Amendment Authorizing Shallow-Set Longline Gear Outside of the Exclusive Economic Zone

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Friday, October 25, 2019.

Schedule of Ancillary Meetings

Day 1—Thursday, November 14, 2019

Coastal Pelagic Species Advisory Subpanel 8 a.m.

Coastal Pelagic Species Management Team 8 a.m.

Groundfish Electronic Monitoring Policy Advisory Committee

And Technical Advisory Committee 8 a.m.

Habitat Committee 8 a.m.

Scientific and Statistical Committee 8 a.m.

Budget Committee 10 a.m.

Legislative Committee 1 p.m.

Day 2—Friday, November 15, 2019

California State Delegation 7 a.m.

Oregon State Delegation 7 a.m.

Washington State Delegation 7 a.m.

Coastal Pelagic Species Advisory Subpanel 8 a.m.

Coastal Pelagic Species Management Team 8 a.m.

Enforcement Consultants 8 a.m.

Groundfish Advisory Subpanel 8 a.m.

Groundfish Management Team 8 a.m.

Salmon Advisory Subpanel 8 a.m.

Salmon Technical Team 8 a.m.

Scientific and Statistical Committee 8 a.m.

Day 3—Saturday, November 16, 2019

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Enforcement Consultants Ad Hoc

Day 4—Sunday, November 17, 2019

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants Ad Hoc

Day 5—Monday, November 18, 2019

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants Ad Hoc

Day 6—Tuesday, November 19, 2019

California State Delegation 7 a.m.

Oregon State Delegation 7 a.m.

Washington State Delegation 7 a.m.

Groundfish Advisory Subpanel 8 a.m.

Groundfish Management Team 8 a.m.

Enforcement Consultants Ad Hoc

Day 7—Wednesday, November 20, 2019

California State Delegation 7 a.m.

Oregon State Delegation 7 a.m.

Washington State Delegation 7 a.m.

Groundfish Advisory Subpanel 8 a.m.

Groundfish Management Team 8 a.m.

Although non-emergency issues not contained in this agenda may come before the Pacific Council for discussion, those issues may not be the subject of formal Council action during these meetings. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2411 at least 10 business days prior to the meeting date.

Authority: 16 U.S.C. 1801 et seq.

Dated: October 23, 2019.
Tracey L. Thompson,
Acting Deputy Director, Office of Sustainable Fisheries, National Marine Fisheries Service.

[FR Doc. 2019-23443 Filed 10-25-19; 8:45 am]

BILLING CODE 3510-22-P